DEPARTMENT OF LABOR

Employment and Training Administration

[NAFTA-6262]

Temco Aquisitions, Inc., Hibbing, MN; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 U.S.C. 2273), an investigation was initiated on June 3, 2002 in response to a petition filed on behalf of workers at TEMCO Acquisitions, Inc., Hibbing, Minnesota.

The petitioners were separated from the subject firm more than one year prior to the date of the petition. Section 223 of the Act specifies that no certification may apply to any worker whose last separation occurred more than one year before the date of the petition. Consequently, further investigation in this case would serve no purpose, and the investigation has been terminated.

Signed in Washington, DC this 4th day of October, 2002.
Linda G. Poole,
Certifying Officer, Division of Trade Adjustment Assistance.

[FR Doc. 02-26748 Filed 10-21-02; 8:45 am]

BILLING CODE 4510-30-P